DEPARTMENT OF DEFENSE

Office of the Secretary

Federal Advisory Committee; Advisory Council on Dependents' Education (ACDE); Postponed Meeting

AGENCY: Department of Defense Education Activity (DoDEA), DoD.

ACTION: Meeting postponement notice.

SUMMARY: Pursuant to the Federal Advisory Committee Act, appendix 2 of title 5, United States Code, Public Law 92-463, a notice published on March 1, 2010, (75 FR 9184), announcing a meeting of the Advisory Council on Dependents' Education (ACDE) scheduled to be held on April 30, 2010, in Wiesbaden, Germany, has been postponed due to unprecedented and unpredictable ash cloud formation restricting air travel to and from the European continent. A new meeting date will be announced.

FOR FURTHER INFORMATION CONTACT: Ms. Leesa Rompre, at (703) 588-3128, or at Leesa.Rompre@hq.dodea.edu.

Dated: April 26, 2010.
Mitchell S. Bryman,
Alternate OSD Federal Register Liaison Officer, Department of Defense.

[FR Doc. 2010-9998 Filed 4-28-10; 8:45 am]

BILLING CODE 5001-06-P